DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 19, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Employment and Training Program Performance Measurement, Monitoring and Reporting Requirements.

OMB Control Number: 0584-0614.

Summary of Collection: This is an extension, without change, of a currently approved collection. In accordance with Section 16(h)(5) of the Food and Nutrition Act (FNA), as amended by section 4022 of the Agriculture Act of 2014, and 7 CFR 273.7(c)(17) the Department requires that State agencies report outcome data for the Supplemental Nutrition Employment Program (SNAP) Employment and Training (E&T) programs. In order for FNS to monitor the effectiveness of E&T programs State agencies are required to report outcome data on five separate reporting measures: (1) the number and percentage of E&T participants who retain employment 2 quarters and 4 quarters after completing E&T; (2) the median wages for participants with earnings 2 quarters after completion of E&T; (3) the number and percentage of participants that completed a training, education, work experience or on-the-job training component; (4) certain unique characteristics of SNAP E&T participants; and (5) additional reporting requirements for State agencies that pledge to serve all at-risk Able-bodied Adults without Dependents (ABAWDs). State agencies are also required to identify appropriate reporting measures for each proposed component that serves a threshold number of participants of at least 100 a year. State agencies identify the reporting measures for these components in State agencies' E&T plans and report the outcome data to the Food and Nutrition Service (FNS) through State agencies' annual reports. State agencies are required to report outcome data annually.

Need and Use of the Information: With this information, FNS is able to identify more, and less, successful E&T practices and provide technical assistance to State agencies to improve their E&T programs.

Description of Respondents: State, Local, or Tribal Governments.

Number of Respondents: 53.

Frequency of Responses: Reporting; annually.

Total Burden Hours: 9,459.

Ruth Brown,
Departmental Information Collection Clearance Officer.

[FR Doc. 2022-25146 Filed 11-17-22; 8:45 am]

BILLING CODE 3410-30-P